CHEMICAL SAFETY AND HAZARD INVESTIGATION BOARD

Senior Executive Service Performance Review Board

AGENCY: Chemical Safety and Hazard Investigation Board.

ACTION: Notice.

SUMMARY: This notice announces a change in the membership of the Senior Executive Service Performance Review Board for the Chemical Safety and Hazard Investigation Board (CSB).

DATES: Effective December 6, 2011.

FOR FURTHER INFORMATION CONTACT: John Lau, Human Resources Director, (202) 261-7600.

SUPPLEMENTARY INFORMATION: 5 U.S.C. 4314(c)(1) requires each agency to establish, in accordance with regulations prescribed by the Office of Personnel Management, a performance review board (PRB). The PRB reviews initial performance ratings of members of the Senior Executive Service (SES) and makes recommendations as to final annual performance ratings for senior executives. Because the CSB is a small independent Federal agency, the SES members of the CSB's PRB are drawn from other Federal agencies.

The Chairperson of the CSB has appointed the following individual to the CSB Senior Executive Service Performance Review Board:

PRB Members—Ruth Samardick, Senior Policy Advisor, Federal Mine Safety and Health Review Commission; Fran Leonard, Chief of Staff, Federal Mediation and Conciliation Service and; Nadine Mancini, General Counsel, Occupational Safety and Health Review Commission.

Mary Johnson (General Counsel, National Mediation Board) continues to serve as a Member of the PRB, as announced in the Federal Register of May 26, 2011 (76 FR 30646).

This notice is published in the Federal Register pursuant to the requirement of 5 U.S.C. 4314(c)(4).

Dated: December 1, 2011.
Rafael Moure-Eraso,
Chairperson.

[FR Doc. 2011-31278 Filed 12-5-11; 8:45 am]

BILLING CODE 6350-01-P